DEPARTMENT OF AGRICULTURE

Forest Service

Fresno County Resource Advisory Committee

AGENCY: Forest Service, USDA.

ACTION: Notice of Resource Advisory Meeting.

SUMMARY: Pursuant to the authorities in the Federal Advisory Committee Act of 1972 (Pub. L. 92-463) and under the secure Rural Schools and Community Self-Determination Act of 2000 (Pub. L. 106-393) the Sierra and Sequoia National Forests' Resource Advisory Committee (RAC) for Fresno County will meet on September 17, 2002, 6:30-9:15 p.m. The Fresno County Resource Advisory Committee will meet at the Forest Supervisor's office Clovis, CA. The purpose of the meeting is for the Resource Advisory Committee to receive project proposals for recommendations to the Forest Supervisor for expenditure of Fresno County Title II funds.

DATES: The Fresno RAC meeting will be held on September 17, 2002. The meeting will be held from 6:30 p.m. to 9:15 p.m.

ADDRESSES: The Fresno County RAC meeting will be held at the Sierra National Forest Supervisor's office, 1600 Tollhouse Road, Clovis, CA.

FOR FURTHER INFORMATION CONTACT: Sue Exline, USDA, Sierra National Forest, 1600 Tollhouse Road, Clovis, CA 93611; (559) 297-0706 ext. 4804; e-mail skexline@fs.fed.us.

SUPPLEMENTARY INFORMATION: Agenda items to be covered include; (1) Review and approve the July 16, 2002 meeting notes; (2) Consideration of Title II project proposals from the public and from the RAC members; (3) Confirm the date, location and agenda of the next meeting; (4) Public comment. The meeting is open to the public. Public input opportunity will be provided and individuals will have the opportunity to address the Committee at that time.

Dated: August 15, 2002.
Ray Porter,
District Ranger.

[FR Doc. 02-21353 Filed 8-21-02; 8:45 am]

BILLING CODE 3410-11-M